DEPARTMENT OF ENERGY

Federal Energy Regulatory Commission

[Docket Nos. RP00-107-006]

Williston Basin Interstate Pipeline Company; Notice of Compliance Filing

June 18, 2004.

Take notice that on June 15, 2004, Williston Basin Interstate Pipeline Company (Williston Basin) tendered for filing as part of its FERC Gas Tariff, Second Revised Volume No. 1, the tariff sheets listed on Appendix A to the filing.

Williston Basin states that it inadvertently omitted Pro forma Tariff Sheet Nos. 16, 16A, 17 and 20, from Volume II of its June 14, 2004 compliance filing. Williston Basin further states that the current filing is being made simply to incorporate the previously omitted tariff sheets.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1422 Filed 6-25-04; 8:45 am]

BILLING CODE 6717-01-P